DEPARTMENT OF THE TREASURY

Office of Foreign Assets Control

Sanctions Actions Pursuant to Executive Order 13664

AGENCY: Office of Foreign Assets Control, Treasury.

ACTION: Notice.

SUMMARY: The Treasury Department's Office of Foreign Assets Control (OFAC) is publishing the names of two individuals and supplemental information for one individual whose property and interests in property are blocked pursuant to Executive Order (E.O.) 13664 and whose names have been added to OFAC's list of Specially Designated Nationals and Blocked Persons (SDN List).

DATES: OFAC's actions described in this notice were effective July 2, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On July 2, 2014, OFAC blocked the property and interests in property of the following two persons pursuant to E.O. 13664, “Blocking Property of Certain Persons With Respect to South Sudan”:

1. DUAL, Simon Gatwech (a.k.a. DUAL, Simon Gatwec; a.k.a. DUAL, Simon Gatwich; a.k.a. DUAL, Simon Getwech; a.k.a. GARWICH, Simon; a.k.a. GATWEACH, Simon; a.k.a. GATWECH, Simon; a.k.a. GATWICK, Simon; a.k.a. “Dhual”; a.k.a. “General Gaduel”), Jonglei State, South Sudan; DOB 1953; POB Akobo, Jonglei State, South Sudan; alt. POB Akobo, Jonglei State, Sudan; alt. POB Uror County, Jonglei State, South Sudan; alt. POB Uror County, Jonglei State, Sudan; SPLA in Opposition Chief of General Staff; Major General (individual) [SOUTH SUDAN].

2. JOK RIAK, Gabriel (a.k.a. JOK, Gabriel; a.k.a. RIAK, Jock; a.k.a. RIAK, Jok), Wau, Western Bahr El Ghazal State, South Sudan; Unity State, South Sudan; DOB 1966; POB Bor, South Sudan; alt. POB Bor, Sudan; nationality South Sudan; Lieutenant General; Sector One Commander (individual) [SOUTH SUDAN].

OFAC supplemented the identification information for one individual whose property and interests in property are blocked pursuant to Executive Order 13664. The supplemental identification information for the individual is as follows:

WOL, Santino Deng (a.k.a. KUOL, Santino Deng; a.k.a. WUOL, Santino Deng); DOB 09 Nov 1962; POB Aweil, South Sudan; alt. POB Aweil, Sudan; Major General; Sudan People's Liberation Army Third Division Commander (individual) [SOUTH SUDAN].

Dated: July 2, 2015.
John E. Smith,
Acting Director, Office of Foreign Assets Control.

[FR Doc. 2015-16931 Filed 7-9-15; 8:45 am]

BILLING CODE 4810-AL-P